DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before June 14, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Numbers: M-2010-018-C and M-2010-019-C.

Petitioner: South Akers Mining Company, LLC, and Hubble Mining Company, LLC, P.O. Box 392, Pikeville, Kentucky 41502.

Mine: Mine No. S.A.M. 10, MSHA I.D. No. 15-18436, Mine No. S.A.M. 14, MSHA I.D. No. 15-16583, Mine No. S.A.M. 19, MSHA I.D. No. 15-19390, located in Pike County, Kentucky and Mine No. S.A.M. 17, MSHA I.D. No. 15-19178, located in Letcher County, Kentucky; and Mine No. 2, MSHA I.D. No. 15-18626, Mine No. 6, MSHA I.D. No. 15-19208, Mine No. 7, MSHA I.D. No. 15-19266, located in Pike County, Kentucky and Mine No. 8, MSHA I.D. No. 15-19252, located in Letcher County, Kentucky.

Regulation Affected: 30 CFR 75.1506(a)(2) (Refuge alternatives).

Modification Request: The petitioner requests a modification of the existing standard concerning the structural components of units consisting of 15 pounds per square inch (psi) stopping constructed prior to an event. The petitioner proposes to use a refuge alternative in the mines listed above consisting of a secure space cut in the rib on the intake air side of a mine or configured in other locations of the mine, all within 1,000 feet of the working face, which contain the Hubble Breathable Air Unit Emergency Supply Container, (“HBA Unit Emergency Supply Container”), and otherwise complying with all applicable provisions set forth in 30 CFR 75.1506(b) through (g). The HBA Unit Emergency Supply Container is a steel reinforced materials storage box approximately 8 feet, 6½ inches in length, and 5 feet, 6 inches in width. The secure area will be accessible and included in pre-shift examinations involving the regular inspection of the secure area and the exterior and interior spaces of the HBA Unit Emergency Supply Container. The HBA Unit Emergency Supply Container: (A) Is certified as designed and constructed to withstand 15 psi overpressure for 0.2 seconds and the heat requirements of 30 CFR 7.505; (B) designed and made to withstand exposure to a flash fire of 300 degrees Fahrenheit for 3 seconds prior to deployment; (C) made with steel which does not have potential to ignite; (D) made from steel and is structurally reinforced, thus providing sufficient durability to withstand routine handling and resist puncture and tearing during deployment and use; and (E) guarded or reinforced to prevent damage to the structure that would hinder deployment, entry, or use.

The HBA Unit Emergency Supply Container contains an apparatus to supply breathable air to the secure space resulting in an isolated atmosphere with a consistently maintained positive pressure. The breathable air may be provided to the secure space for an indefinite duration because it is used in conjunction with the Hubble Breathable Air Unit (“HBA Unit”) or other unit approved for supplying breathable air into the mine from the surface. The HBA Unit is currently being considered for approval by MSHA and the application has been issued Code Number 8297.

The HBA Unit Emergency Supply Container also contains two inflatable brattices manufactured by the Heintzmann Corporation, commercially referred to as the “Inflatable Life Curtain.” The Inflatable Life Curtain will be used to isolate the safe haven from the mine atmosphere. Each Inflatable Life Curtain has a door allowing ingress and egress to and from the secure area that utilizes Velcro fastening. The Inflatable Life Curtain will be inflated in place, as recommended by Heintzmann Corporation manufacturing specifications. The inflation canisters containing carbon dioxide used in conjunction with the Inflatable Life Curtains are also contained within the HBA Unit Emergency Supply container, along with installation instructions. Alternatively, the Inflatable Life Curtains are designed to be inflated, by an apparatus connected to the regulator within the HBA Unit Emergency Supply Container. Use of this apparatus to inflate the Inflatable Life Curtains with breathable air does not affect the supply of breathable air supplied to the secure area because the regulator can be used to increase flow to maintain all standards set forth in 30 CFR 7.506(c).

The Inflatable Life Curtains are designed to achieve a seal in areas with irregular sides, bottoms and roofs by virtue of the inflatable portion of the Inflatable Life Curtains being on its outer perimeter. The piping supplying breathable air to the HBA Unit Emergency Supply container does not affect the seal achieved by the Inflatable Life Curtain because, except in certain intersections of the mine where the piping is buried, the piping will be covered with inert material at a depth to the diameter of the pipe. The material used for covering will be material such as: Ballast, sand bags, rock dust, mine gob, earth—rock and dirt, gravel, refuse, or other similar material that is approved in the mine ventilation plan. Spray foam is also included in the HBA Unit Emergency Supply container to use in the unlikely event the Inflatable Life Curtain does not achieve a tight seal on the entry and exit to the secure area.

All miners working in the above-referenced mines will receive extensive training on the installation, use, and maintenance of the Inflatable Life Curtains. The useable life of the Inflatable Life Curtains is approximately 10 years, and those included within the HBA Unit Emergency Supply Container will be regularly inspected and replaced as needed.

The petitioner states that all miners in the mines affected by these petitions will receive regular and thorough training on all aspects of the installation, use, and maintenance of all proposed systems. The petitioner also states that they are unaware of existing technology that can be feasibly utilized in the mines listed above to provide an area behind 15 psi stoppings allowing for easy access. The petitioner has listed in these petitions other alternative provisions that will be followed when using the refuge alternative. Persons may review a complete list of the provisions for these petitions at the MSHA address listed in this notice. The petitioner asserts that application of the existing standard concerning the structural components of units consisting of 15 psi stoppings constructed prior to an event, will result in a diminution of safety to the miners located in the mines listed above, because there is no feasible way to ventilate harmful gases such as carbon monoxide and methane from an area behind 15 psi stoppings. The petitioner asserts that the proposed alternative method will at all times guarantee no less than the same measure of protection afforded by the existing standard.

Docket Number: M-2010-001-M.

Petitioner: Morton International, Inc., Highway 83 South, New Iberia, Louisiana 70560.

Mine: Weeks Island Mine, MSHA I.D. No. 16-00970, located in Iberia County, Louisiana.

Regulation Affected: 30 CFR 57.22304 (Approved equipment (II-A mines) .

Modification Request: The petitioner proposes to use Model J251-D/E Face Drill, manufactured by J.H. Fletcher & Company. The petitioner states that: (1) The J251-D/E Face Drill consists of an electric drill combined with a diesel-powered tram system. The electric and diesel power systems are electrically interlocked within the permissible enclosure. The electric drill meets the requirements of 30 CFR part 18. The electrical interlock between the electric and diesel components prevents the operation of the electrical system when the diesel is running, and prevents the diesel system from operating when the electrical system is running. The diesel engine for the tram is not an MSHA-approved permissible engine. The J251-D/E Face Drill has a methane monitoring system which will be connected to both the electric drill and the diesel tram circuits of the machine and shuts down both functions at a set level of methane; (2) drilling equipment without a diesel tram system requires a multi-step process to transport the permissible drill equipment between remote face locations. These steps include: (a) hitching the permissible equipment to a diesel vehicle; (b) disabling the permissible equipment's tram system and brakes; (c) towing the permissible equipment to the new face location; (d) re-enabling the tram system and brakes; (e) disconnecting the tow vehicle; and (f) repositioning the tow vehicle away from the cutting and drilling equipment; (3) although procedures and training utilized by miners allow these manual steps to be accomplished safely, a machine with its own diesel tram system provides an engineered method to reduce hazards for miners associated with towing vehicles and towed equipment. Those hazards include some of the likely causes of fatalities and serious injuries in mines (e.g. getting caught between the equipment and/or rib); (4) prohibiting the use of the drill will require miners at the Weeks Island Mine to continue to rely on a manual multi-step process, with greater potential for human error to move drilling equipment across long distances rather than benefiting from an engineered safety solution. The petitioner asserts that application of the existing standard will result in a diminution of safety to the miners and that the proposed alternative method will at all times assure no less than the same measure of protection afforded by the standard and actually will provide improved safety.

Patricia W. Silvey,
Director, Office of Standards, Regulations and Variances.

[FR Doc. 2010-11449 Filed 5-12-10; 8:45 am]

BILLING CODE 4510-43-P